ENVIRONMENTAL PROTECTION AGENCY

[FRL-9204-4]

Science Advisory Board Staff Office; Notification of a Public Meeting of the SAB Dioxin Review Panel

AGENCY: Environmental Protection Agency (EPA).

ACTION: Notice.

SUMMARY: The Environmental Protection Agency (EPA or Agency) Science Advisory Board (SAB) Staff Office announces a public meeting of the SAB Dioxin Review Panel to continue its review of EPA's Reanalysis of Key Issues Related to Dioxin Toxicity and Response to NAS Comments, External Review Draft.

DATES: The meeting dates are Wednesday, October 27, 2010 from 9 a.m. to 5 p.m., Thursday, October 28, 2010 from 8:30 a.m. to 5 p.m. and Friday, October 29, 2010 from 8:30 a.m. to 3 p.m. (Eastern Daylight Time).

ADDRESSES: The meeting will be held at the Park Hyatt Washington Hotel, 1201 24th Street, NW., Washington, DC 20037.

FOR FURTHER INFORMATION CONTACT: Members of the public who wish to obtain further information about this meeting may contact Dr. Thomas Armitage, Designated Federal Officer (DFO), EPA Science Advisory Board Staff Office (1400R), U.S. Environmental Protection Agency, 1200 Pennsylvania Avenue, NW., Washington, DC 20460; by telephone/voice mail at (202) 564-2155 or via e-mail at armitage.thomas@epa.gov. General information about the SAB as well as any updates concerning the meeting announced in this notice, may be found on the SAB Web site at http://www.epa.gov/sab.

SUPPLEMENTARY INFORMATION: Pursuant to the Federal Advisory Committee Act (FACA), 5 U.S.C., App. 2, notice is hereby given that the SAB Dioxin Review Panel will hold a public meeting to continue its peer review of EPA's Reanalysis of Key Issues Related to Dioxin Toxicity and Response to NAS Comments, External Review Draft (May 2010). The SAB was established pursuant to 42 U.S.C. 4365 to provide independent scientific and technical advice to the Administrator on the technical basis for Agency positions and regulations. The SAB is a Federal Advisory Committee chartered under FACA. The SAB will comply with the provisions of FACA and all appropriate SAB Staff Office procedural policies.

Background: The SAB Dioxin Review Panel previously held a teleconference on June 24, 2010 and a face-to-face meeting on July 13-15, 2010 to receive EPA briefings and initiate its review of EPA's Reanalysis of Key Issues Related to Dioxin Toxicity and Response to NAS Comments External Review Draft (May 2010) [Federal Register Notice dated May 24, 2010 (75 FR 28805-28806)]. Specifically, the Panel has been asked to evaluate the transparency and clarity in the selection of key data sets for dose-response analysis; the use of toxicokinetics in dose-response modeling for cancer and non-cancer endpoints; the derivation of the chronic reference dose; cancer assessment; and EPA's comments regarding the feasibility of the quantitative uncertainty analysis from the NAS evaluation of the 2003 reassessment. At the October 27-29, 2010 meeting the SAB Panel will continue its peer review of EPA's draft document. Background information on this advisory activity is available on the SAB Web site at http://yosemite.epa.gov/sab/sabproduct.nsf/fedrgstr_activites/Dioxin%20Reasst%20-%202008-2011?OpenDocument.

Availability of Meeting Materials: The meeting agenda and other meeting material will be placed on the SAB Web site at http://www.epa.gov/sab in advance of the meeting. For technical questions and information concerning EPA's draft document, please contact Dr. Glenn Rice at (513) 569-7813 or rice.glenn@epa.gov.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to EPA. Members of the public can submit comments for a federal advisory committee to consider as it develops advice for EPA. They should send their comments directly to the Designated Federal Officer for the relevant advisory committee. Oral Statements: In general, individuals requesting an oral presentation at a public meeting will be limited to five minutes per speaker. Each person making an oral statement should consider providing written comments so that the points presented orally can be expanded upon in writing. Interested individuals should contact Dr. Thomas Armitage, DFO, in writing (preferably via e-mail) at the contact information noted above, by Wednesday, October 20, 2010 to be placed on the list of public speakers. Written Statements: Written statements should be supplied to the DFO via email at the contact information noted above, by Wednesday, October 20, 2010 so that the information may be made available to the Panel members for their consideration. Written statements should be supplied in one of the following electronic formats: Adobe Acrobat PDF, MS Word, MS PowerPoint, or Rich Text files in IBM-PC/Windows 98/2000/XP format. Submitters are requested to provide versions of signed documents, submitted with and without signatures, because the SAB Staff Office does not publish documents with signatures on its Web sites.

Accessibility: For information on access or services for individuals with disabilities, please contact Dr. Thomas Armitage at (202) 564-2155 or armitage.thomas@epa.gov. To request accommodation of a disability, please contact Dr. Armitage preferably at least ten days prior to the meeting to give EPA as much time as possible to process your request.

Dated: September 9, 2010.
Anthony F. Maciorowski,
Deputy Director, EPA Science Advisory Board Staff Office.

[FR Doc. 2010-23688 Filed 9-21-10; 8:45 am]

BILLING CODE 6560-50-P